DEPARTMENT OF LABOR

Employment and Training Administration

[TA-W-61,318]

Epic Technologies, LLC. Including On-Site Leased Workers of Superior Technical Resources and Spherion, Johnson City Division, Johnson City, TN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on May 14, 2007, applicable to workers of Epic Technologies, LLC., including on-site leased workers of Superior Technical Resources, Johnson City Division, Johnson City, Tennessee. The notice was published in the Federal Register on May 30, 2007 (72 FR 30033).

At the request of a company official, the Department reviewed the certification for workers of the subject firm. The workers are engaged in the production of assembled printed circuit boards.

New information shows that leased workers of Spherion were employed on-site at the Johnson City, Tennessee location of Epic Technologies, LLC., Johnson City Division. The Department has determined that these workers were sufficiently under the control of Epic Technologies, LLC., Johnson City Division to be considered leased workers.

Based on these findings, the Department is amending this certification to include leased workers of Spherion working on-site at the Johnson City, Tennessee location of the subject firm.

The intent of the Department's certification is to include all workers employed at Epic Technologies, LLC., Johnson City Division, Johnson City, Tennessee who were adversely impacted by a shift in production of assembled printed circuit boards to Mexico.

The amended notice applicable to TA-W-61,318 is hereby issued as follows:

All workers of Epic Technologies, LLC., including on-site leased workers from Superior Technical Resources, and Spherion, Johnson City Division, Johnson City, Tennessee, who became totally or partially separated from employment on or after April 16, 2006, through May 14, 2009, are eligible to apply for adjustment assistance under Section 223 of the Trade Act of 1974, and are also eligible to apply for alternative trade adjustment assistance under Section 246 of the Trade Act of 1974.

Signed at Washington, DC this 1st day of February 2008.
Richard Church,
Certifying Officer, Division of Trade Adjustment Assistance.

[FR Doc. E8-2621 Filed 2-12-08; 8:45 am]

BILLING CODE 4510-FN-P